NATIONAL AERONAUTICS AND SPACE ADMINISTRATION

14 CFR Parts 1260 and 1274

RIN 2700-AC79

NASA Grant and Cooperative Agreement Handbook—Property Reporting

AGENCY: National Aeronautics and Space Administration.

ACTION: Interim rule.

SUMMARY: This interim rule amends the NASA Grant and Cooperative Agreement Handbook to require earlier submission of annual property inventory reports. This will allow NASA to meet the revised Agency financial statement completion date.

DATES: Effective Date: This interim rule is effective February 3, 2004.

Comment Date: Comments should be submitted to NASA at the address below on or before April 5, 2004.

ADDRESSES: Interested parties should submit written comments to Paul Brundage, NASA Headquarters, Office of Procurement, Contract Management Division (Code HK), Washington, DC 20546.

FOR FURTHER INFORMATION CONTACT: Paul Brundage, Code HK, (202) 358-0481, e-mail: paul.d.brundage@nasa.gov.

SUPPLEMENTARY INFORMATION:

A. Background

The Office of Management and Budget has required NASA to complete its annual financial statements sooner. Since recipients maintain NASA's official records for its assets in their possession, NASA uses the data contained in recipients' reports for annual financial statements and property management. As a result, NASA is changing the date for submission of annual Inventory Reports from October 31st to October 15th of each year.

B. Regulatory Flexibility Act

NASA certifies that this interim rule will not have a significant economic impact on a substantial number of small entities within the meaning of the Regulatory Flexibility Act, 5 U.S.C. 601 et seq., because it requires no additional work.

C. Paperwork Reduction Act

The Paperwork Reduction Act does not apply because this interim rule does not impose any new recordkeeping or information collection requirements, or collection of information from offerors, contractors, or members of the public that require the approval of the Office of Management (OMB) and Budget under 44 U.S.C. 3501, et. seq.

D. Determination to Issue an Interim Rule

In accordance with 41 U.S.C. 418(d), NASA has determined that urgent and compelling reasons exist to promulgate this interim rule. The basis for this determination is that this change incorporates into the Handbook NASA's class deviation issued on September 4, 2003, in NASA's Grant Information Circular (GIC) 03-01 for accelerated property reporting. Public comments received in response to this interim rule will be considered in the formation of the final rule.

List of Subjects in CFR Parts 1260 and 1274

Grant programs—Science and technology.

Tom Luedtke,
Assistant Administrator for Procurement.

Accordingly, 14 CFR parts 1260 and 1274 are amended as follows:

1. The authority citation for 14 CFR part 1260 continues to read as follows:

Authority: 42 U.S.C. 2473(c)(1), and Pub. L. 97-258, 96 Stat. 1003 (31 U.S.C. 6301, et seq.).

PART 1260—GRANTS AND COOPERATIVE AGREEMENT

2. In section 1260.27, revise the date in the introductory text and revise the introductory text of paragraph (b) to read as follows:

§ 1260.27 Equipment and other property.

Equipment and Other Property (February 2004)

* * * * *

(b) The Recipient shall submit an annual Inventory Report, to be received no later than October 15 of each year, which lists all reportable (non-exempt equipment and/or Federally owned property) in its custody as of September 30. Negative responses for annual Inventory Reports (when there is no reportable equipment) are not required. A Final Inventory Report of Federally Owned Property, including equipment where title was taken by the Government, will be submitted by the Recipient no later than 60 days after the expiration date of the grant. Negative responses for Final Inventory Reports are required.

* * * * *

3. In section 1260.67, revise the introductory text and paragraph (g) to read as follows:

§ 1260.67 Equipment and other property under grants with commercial firms.

Equipment and Other Property Under Grants with Commercial Firms (February 2004)

* * * * *

(g) Recipients shall submit annually a NASA Form 1018, NASA Property in the Custody of Contractors, in accordance with the instructions on the form, the provisions of 48 CFR (NFS) 1845.71 and any supplemental instructions that may be issued by NASA for the current reporting period. The original NF 1018 shall be submitted to the center Deputy Chief Financial Officer (Finance) with three copies sent concurrently to the center Industrial Property Officer. The annual reporting period shall be from October 1 of each year through September 30 of the following year. The report shall be submitted in time to be received by October 15. Negative reports (i.e. no reportable property) are required. The information contained in the reports is entered into the NASA accounting system to reflect current asset values for agency financial statement purposes. Therefore, it is essential that required reports be received no later than October 15. A final report is required within 30 days after expiration of the agreement.

* * * * *

4. The authority citation for 14 CFR part 1274 continues to read as follows:

Authority: 42 U.S.C. 2451 et seq., and 31 U.S.C. 6301 to 6308.

PART 1274—COOPERATIVE AGREEMENTS WITH COMMERCIAL FIRMS

5. In section 1274.923, revise the date in the introductory text and paragraph (f) to read as follows:

§ 1274.923 Equipment and Other Property.

Equipment and Other Property (February 2004)

* * * * *

(f) Recipients shall submit annually a NASA Form 1018, NASA Property in the Custody of Contractors, in accordance with the instructions on the form, the provisions of 48 CFR (NFS) 1845.71 and any supplemental instructions that may be issued by NASA for the current reporting period. The original NF 1018 shall be submitted to the center Deputy Chief Financial Officer, Finance, with three copies sent concurrently to the center Industrial Property Officer. The annual reporting period shall be from October 1 of each year through September 30 of the following year. The report shall be submitted in time to be received by October 15. Negative reports (i.e. no reportable property) are required. The information contained in the reports is entered into the NASA accounting system to reflect current asset values for agency financial statement purposes. Therefore, it is essential that required reports be received no later than October 15. A final report is required within 30 days after expiration of the agreement.

* * * * *

[FR Doc. 04-2073 Filed 2-2-04; 8:45 am]

BILLING CODE 7510-01-P